DEPARTMENT OF TRANSPORTATION

Federal Transit Administration

Supplemental Draft Environmental Impact Statement on the Erie Canal Harbor Project (Formerly the Inner Harbor Development Project)

AGENCY: Federal Transit Administration, DOT.

ACTION: Notice of intent to prepare a Supplemental Draft Environmental Impact Statement.

SUMMARY: The Federal Transit Administration (FTA) and the Niagara Frontier Transportation Authority (NFTA) intend to prepare a Supplemental Draft Environmental Impact Statement (SDEIS) for the Erie Canal Harbor Project (formerly referred to as the Inner Harbor Development Project), in accordance with the National Environmental Policy Act (NEPA). The original Notice of Intent to prepare a DEIS for the Project was issued on November 10, 1997; the final EIS (FEIS) was issued in February 1999; and FTA issued the Record of Decision (ROD) on June 22, 1999. The project is being administered by the New York State Urban Development Corporation doing business as the Empire State Development Corporation (ESDC).

The participation of the general public, interested parties, and agencies is encouraged and will be solicited. A Public Scoping Meeting will be held to discuss the information to be included in the SDEIS, as outlined below.

DATES: Comment Due Date: Written comments on the scope of alternatives and impacts to be considered should be sent to Mr. Thomas Blanchard, Director of Planning and Development, Empire State Development—Western New York by May 28, 2003. Scoping Meeting: A public scoping meeting will be held on Tuesday, May 13, 2003, at 6 p.m. at the address identified below.

ADDRESSES: Written comments on the project scope should be sent to Mr. Blanchard at 420 Main Street, Suite 717, Buffalo, New York 14202. The scoping meeting will be held at the Buffalo Historical Society Auditorium, 25 Nottingham Court, Buffalo, NY 14216.

FOR FURTHER INFORMATION CONTACT: Nancy Danzig, Community Planner, FTA Region II. Telephone (212) 668-2180.

SUPPLEMENTARY INFORMATION: The Project's 1999 Final EIS evaluated a Proposed Action involving the reconfiguration of a portion of the Buffalo River bulkhead and redevelopment of a site within the City's Waterfront Development Project Urban Renewal Area into a new harbor with intermodal transportation components at the foot of Main Street. In addition, the Proposed Action involves the construction of a series of landside improvements to facilitate and enhance public access to the waterfront, connect existing pedestrian and bicycle path systems, and provide opportunities for private development.

In this SDEIS, ESDC will evaluate alternatives for revisions to a portion of the Proposed Action to better interpret archaeological resources encountered on the Project site related to the site's location at the historic terminus of the Erie Canal at the Commercial Slip. Planned construction at the western portion of the Project site as included in the Proposed Action, entailing completion of the naval basin and relocation of the three naval vessels, are currently under construction and anticipated to be completed in the fall of 2003.

Alternatives for revisions to the Proposed Action will be formulated in conjunction with a series of public design workshops and meetings with heritage interpretation groups to be held in the summer of 2003. Although still to be formulated, the alternatives will include consideration of realignment or reconfiguration of the Hamburg Drain to allow for a rewatering of the Commercial Slip along its historic right-of-way; methods to interpret the former location of the Central Wharf; reuse or interpretation of former streets that crossed the Project site; revised methods of using building foundations of former structures on the site as interpretive elements; and redesign and/or reprogramming of the Naval and Military Park's museum building and associated refinements to the configuration of future development parcels associated with these other site elements. All alternatives to be considered will meet the intermodal objectives and include programmatic components of the Proposed Action in the Project's 1999 Final EIS.

The SDEIS will present the benefits and costs, environmental impacts, and proposed mitigation measures associated with the alternatives for revisions to the Proposed Action. Following completion and public review of the SDEIS, anticipated in early 2004, a Final EIS would be prepared.

Issued on: April 11, 2003.
Letitia Thompson,
Regional Administrator.

[FR Doc. 03-9499 Filed 4-16-03; 8:45 am]

BILLING CODE 4910-57-P